DEPARTMENT OF JUSTICE

Notice of Lodging of Eleventh Consent Decree in United States v. Nalco Chemical Company, et al., Under the Comprehensive Environmental Response, Compensation, and Liability Act

Notice is hereby given that a proposed eleventh Consent Decree in United States v. Nalco Chemical Company, et al., Case No. 91-C-4482 (N.D. Ill.) entered into by the United States on behalf of U.S. EPA and Raco, Inc. was lodged on April 9, 2001 with the United States District Court for the Northern District of Illinois. The proposed Consent Decree resolves certain claims of the United States against Raco, Inc. under the Comprehensive Environmental Response Compensation and Liability Act, 42 U.S.C. 9601 et seq. relating to the Byron Salvage Superfund Site in Ogle County, Illinois. This Consent Decree is a past costs only settlement and provides for Raco, Inc. to pay $122,866 to the Hazardous Substances Superfund.

The Department of Justice will receive comments relating to the proposed Consent Decree for 30 days following the publication of this Notice. Comments should be addressed to the Assistant Attorney General of the Environment and Natural Resources Division, Department of Justice, P.O. Box 7611, Ben Franklin Station, Washington, DC 20044, and should refer to United States v. Nalco Chemical Company, et al., D.J. Ref. No. 90-11-3-687. The proposed Consent Decree may be examined at the Office of the United States Attorney for the Northern District of Illinois, 219 S. Dearborn St., Chicago, Illinois 60604; and the Region V Office of the United States Environmental Protection Agency, 77 West Jackson Street, Chicago, Illinois 60604. A copy of the Consent Decree may also be obtained by request addressed to the Department of Justice Consent Decree Library, P.O. Box 7611, Ben Franklin Station, Washington, DC 20044. In requesting a copy of the Consent Decree, please enclose a check in the amount of $5.00 (25 cents per page for reproduction costs), payable to the Consent Decree Library.

William D. Brighton,
Assistant Section Chief, Environmental Enforcement Section.

[FR Doc. 01-9906 Filed 4-20-01; 8:45 am]

BILLING CODE 4410-15-M